DEPARTMENT OF EDUCATION

Reopening; Application for New Awards; Basic Needs for Postsecondary Students Program

AGENCY: Office of Postsecondary Education, Department of Education.

ACTION: Notice; reopening of application period.

SUMMARY: On August 2, 2022, the Department of Education (Department) published in the Federal Register a notice inviting applications (NIA) for new awards for fiscal year (FY) 2022 for the Basic Needs for Postsecondary Students (Basic Needs) Program, Assistance Listing Number 84.116N. This notice reopens this competition to allow more time for the preparation and submission of applications by eligible applicants that are affected applicants (as described in Eligibility below), located in Puerto Rico, portions of Alaska covered by a Presidential major disaster declaration, and areas under a Presidential major disaster or emergency declaration resulting from Hurricane Ian, which includes Florida, the Seminole Tribe of Florida, North Carolina, and South Carolina.

DATES: Deadline for Transmittal of Applications for Affected Applicants: October 14, 2022.

FOR FURTHER INFORMATION CONTACT: Njeri Clark, U.S. Department of Education, 400 Maryland Avenue SW, room 2B186, Washington, DC 20202-4260. Telephone: (202) 453-6224. Email: Njeri.Clark@ed.gov.

If you are deaf, hard of hearing, or have a speech disability and wish to access telecommunications relay services, please dial 7-1-1.

SUPPLEMENTARY INFORMATION: On August 2, 2022, we published in the Federal Register the NIA for the Basic Needs Program (87 FR 47201). Under the NIA, applications were due on October 3, 2022. We are reopening this competition for affected applicants described below to allow them more time—until October 14, 2022—to prepare and submit their applications.

Eligibility:

The reopening of this competition applies to eligible applicants under the Basic Needs competition that are affected applicants. An eligible applicant for this competition is defined in the NIA. To qualify as an affected applicant, the applicant must have a mailing address that is located in a jurisdiction that is part of one of the applicable federally declared disaster areas and must provide appropriate supporting documentation, if requested.

The affected areas are those in which assistance to individuals or public assistance has been authorized under the following FEMA declarations:

• Puerto Rico (https://www.fema.gov/disaster/4671);

• Portions of Alaska covered by a Presidential major disaster declaration (https://www.fema.gov/disaster/4672);

• Florida (https://www.fema.gov/disaster/4673);

• The Seminole Tribe of Florida (https://www.fema.gov/disaster/4675);

• North Carolina (https://www.fema.gov/disaster/3586); and • South Carolina (https://www.fema.gov/disaster/3585).

Affected applicants that have already timely submitted applications under the FY 2022 Basic Needs competition may submit a new application, but they are not required to do so. If a new application is not submitted, the Department will use the application that was submitted by the original deadline. If a new application is submitted, the Department will consider the application that is last submitted and timely received. Applications that did not meet the original deadline may be resubmitted to be considered for review.

We are not reopening the application period for all applicants. Thus, applications from applicants that are not affected applicants may not be submitted as part of this reopened period for submission of applications.

Note: All information in the NIA remains the same, except for the deadline date for affected applicants.

Program Authority: 20 U.S.C. 1138-1138d; and the Explanatory Statement accompanying Division H of the Consolidated Appropriations Act, 2022 (Pub. L. 117-103) (Explanatory Statement).

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Nasser Paydar,
Assistant Secretary for Postsecondary Education.

[FR Doc. 2022-22114 Filed 10-11-22; 8:45 am]

BILLING CODE 4000-01-P